DEPARTMENT OF AGRICULTURE

Rural Utilities Service

[Docket No. RUS-23-ELECTRIC-0011]

60-Day Notice of Proposed Information Collection: RUS Specification for Quality Control and Inspection of Timber Products; OMB Control No.: 0572-0076

AGENCY: Rural Utilities Service, USDA.

ACTION: Notice; request for comments.

SUMMARY: In accordance with the Paperwork Reduction Act of 1995, the United States Department of Agriculture (USDA) Rural Utilities Service (RUS or Agency) announces its' intention to request an extension of a currently approved information collection and invites comments on this information collection.

DATES: Comments on this notice must be received by October 23, 2023 to be assured of consideration.

ADDRESSES: Comments may be submitted by the Federal eRulemaking Portal: Go to http://www.regulations.gov and, in the “Search Field” box, labeled “Search for dockets and documents on agency actions,” enter the following docket number: (RUS-23-ELECTRIC-0011). To submit or view public comments, click the “Search” button, select the “Documents” tab, then select the following document title: “RUS Specification for Quality Control and Inspection of Timber Products” from the “Search Results,” and select the “Comment” button. Before inputting your comments, you may also review the “Commenter's Checklist” (optional). Insert your comments under the “Comment” title, click “Browse” to attach files (if available). Input your email address and select “Submit Comment.” Information on using Regulations.gov, including instructions for accessing documents, submitting comments, and viewing the docket after the close of the comment period, is available through the site's “FAQ” link.

FOR FURTHER INFORMATION CONTACT: Kimble Brown, Rural Development Innovation Center—Regulations Management Division, USDA, 1400 Independence Avenue SW, Room 4227, South Building, Washington, DC 20250-1522. Telephone: (202) 720-6780. Email kimble.brown@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies the following information collection that RHS is submitting to OMB as an extension to an existing collection with Agency adjustment.

Title: RUS Specification for Quality Control and Inspection of Timber Products.

OMB Control Number: 0572-0076.

Expiration Date of Approval: February 29, 2024.

Type of Request: Extension of a currently approved collection.

Estimate of Burden: This collection of information is estimated to average 1.01 hour per response.

Respondents: Not-for-profit institutions; Business or other for profit.

Estimated Number of Respondents: 25.

Estimated Number of Responses per Respondent: 800.

Estimated Total Number of Responses: 20,000.

Estimated Annual Reporting Burden on Respondents: 20,000 hours.

Estimated Annual Recordkeeping Burden on Respondents: 333.25 hours.

Estimated Total Annual Burden on Respondents: 20,333.25 hours.

Abstract: RUS Bulletin 1728H-702 and 7 CFR 1728.202 describe the responsibilities and procedures pertaining to the quality control by producers and pertaining to inspection of timber products produced in accordance with RUS specifications. To ensure the security of loan funds, adequate quality control of timber products is vital to loan security on electric power systems where hundreds of thousands of wood poles and cross-arms are used. Since RUS and its borrowers do not have the expertise or manpower to quickly determine imperfections in the wood products or their preservatives treatments, they must obtain service of an inspection agency to ensure that the specifications for wood poles and cross-arms are being met. Copies of test reports on various preservatives must accompany each load of poles treated at the same time in a pressure cylinder (charge) as required by 7 CFR 1728.202(i). RUS feels the importance of safety concerns are enough to justify requiring test reports so that the purchaser, inspectors, and RUS will be able to spot check the general accuracy and reliability of the tests.

Comments are invited on:

(a) whether the proposed collection of information is necessary for the proper performance of the functions of the Agency, including whether the information will have practical utility.

(b) the accuracy of the Agency's estimate of the burden of the proposed collection of information including the validity of the methodology and assumptions used.

(c) ways to enhance the quality, utility, and clarity of the information to be collected; and

(d) ways to minimize the burden of the collection of information on respondents, including through the use of appropriate automated, electronic, mechanical, or other technological collection techniques or other forms of information technology. All responses to this notice will be summarized and included in the request for OMB approval. All comments will become a matter of public record.

Copies of this information collection can be obtained from Kimble Brown, Innovation Center—Regulations Management Division, at (202) 720-2825. Email: kimble.brown@usda.gov.

All responses to this notice will be summarized and included in the request for OMB approval. All comments will also become a matter of public record.

Andrew Berke,
Administrator, Rural Utilities Service.

[FR Doc. 2023-18095 Filed 8-22-23; 8:45 am]

BILLING CODE 3410-XV-P